DEPARTMENT OF HEALTH AND HUMAN SERVICES

National Institutes of Health

Submission for OMB Review; Comment Request; Career Survey of Science-Oriented Scholars

SUMMARY: Under the provisions of Section 3507(a)(1)(D) of the Paperwork Reduction Act of 1995, the Office of Loan Repayment and Scholarship (OLRS), National Institutes of Health (NIH), has submitted to the Office of Management and Budget (OMB) a request to review and approve the information collection listed below. This proposed information collection was previously published in the Federal Register on February 3, 2004, pages 7235-7236, and allowed 60 days for public comment. No public comments were received. The purpose of this notice is to allow an additional 30 days for public comment. The NIH may not conduct or sponsor, and the respondent is not required to respond to, an information collection that has been extended, revised, or implemented on or after October 1, 1995, unless it displays a currently valid OMB control number.

Proposed Collection

(1) Title: Career Survey of Science-Oriented Scholars (CSSOS).

(2) Focus group of current and former participants in the Undergraduate Scholarship Program (UGSP) at NIH.

Type of Information Collection Request: NEW.

Need and Use of Information Collection: This survey and focus group are part of a comprehensive evaluation of the National Institutes of Health (NIH) Undergraduate Scholarship Program (UGSP), the purpose of which is to evaluate the success of the UGSP in achieving its intermediate goal of keeping scholars from disadvantaged backgrounds on track to eventually become tenured research scientists at the NIH. The CSSOS will collection information on undergraduate, graduate, and post-graduate education and training; employment history, experiences with the NIH; career status and goals, and demographic data. The protocol for the focus groups will address the program application process; experiences during the school year, particularly relations with college mentors; experience during the summer internship; experiences during years spent in payback; perceptions of program effects; career plans; and potential program improvements. Such information can be used to gauge whether the program is meeting the expectations of program managers and how the program could be improved in the future. It will be used to address the outcome and impact study questions related to short- and long-term retention, both at NIH and in research generally.

In addition to informing OLRS about the effectiveness of the UGSP program, the results of the evaluation will become the basis for recommendations on how the program could be modified to improve outcomes. Indeed, some of the findings may be useful to the Office of the Director, NIH, in terms of human resources policy in particular and NIH policy generally. Also, the information collection will help our Nation's leaders in setting policies to ensure a solid infrastructure for biomedical research. Encouraging the Nation's brightest minds to pursue careers in biomedical research, both in public service such as NIH and in private laboratories, is critical to this effort.

Frequency of Response: One-time data collection.

Affected Public: Individuals.

Type of Respondents: Current and former NIH UGSP finalist applicants and scholars. The annualized cost to respondents is estimated at $6,687. There are no capital costs, operating costs, and/or maintenance costs to report.

Type of respondent | Approximate number of completed responses | Response per respondent | Hours per response | Total burden hours | Wage rate | Total hour cost
College Students | 30 | 1 | .50 | 15.0 | $20.00/hr | $300
College Graduates | 120 | 1 | .75 | 90.0 | $44.82/hr | $4,034
Focus Group Participants | 35 | 1 | 1.5 | 52.5 | $44.82/hr | $2,353
Total | 185 |  |  | 157.5 |  | $6,687

Request for Comments: Written comments and/or suggestions from the public and affected agencies are invited, particularly with respect to one or more of the following points: (1) Whether the proposed collection of information is necessary for the proper performance of the function of the agency, including whether the information will have practical utility; (2) The accuracy of the agency's estimate of the burden of the proposed collection of information, including the validity of the methodology, and assumptions used; (3) Ways to enhance the quality, utility and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, shall be directed to the Office of Management and Budget, Office of Regulatory Affairs, New Executive Office Building, Room 10235, Washington, DC 20503, Attention: Desk Officer for NIH. To request more information on the proposed project or to obtain a copy of the data collection plans and instruments, contact Dr. Alfred C. Johnson, Director, Undergraduate Scholarship Program, NIH, 2 Center Drive, Room 2E30, Bethesda, Maryland 20892-0230, or call toll-free number (800) 528-7689 or e-mail your request including your address to: ACJohnson@nih.gov.

Comments Due Date: Comments regarding this information collection are best assured of having their full effect if received within 30 days of the date of this publication.

Dated: June 30, 2004.
Raynard S. Kington,
Deputy Director, National Institutes of Health.

[FR Doc. 04-15468 Filed 7-7-04; 8:45 am]

BILLING CODE 4140-01-M